DEPARTMENT OF ENERGY

Environmental Management Site-Specific Advisory Board Chairs

AGENCY: Office of Environmental Management, Department of Energy.

ACTION: Notice of open meeting: cancellation.

SUMMARY: On March 5, 2020, the Department of Energy published a notice of open meeting announcing a meeting on April 1-2, 2020 of the Environmental Management Site-Specific Advisory Board Chairs. This notice announces the cancellation of this meeting.

DATES: The meeting scheduled for April 1-2, 2020, announced in the March 5, 2020, issue of the Federal Register (FR Doc. 2020-04548, 85 FR 12910), is cancelled.

FOR FURTHER INFORMATION CONTACT: David Borak, EM SSAB Designated Federal Officer, U.S. Department of Energy, 1000 Independence Avenue SW, Washington, DC 20585; Phone: (202) 586-9928; email: david.borak@em.doe.gov.

Signed in Washington, DC on March 12, 2020.
LaTanya Butler,
Deputy Committee Management Officer.

[FR Doc. 2020-05587 Filed 3-17-20; 8:45 am]

BILLING CODE 6450-01-P